DEPARTMENT OF DEFENSE

Department of the Navy

Secretarial Authorization for a Member of the Department of the Navy To Serve on the Board of Directors, Navy-Marine Corps Relief Society

AGENCY: Department of the Navy, DoD.

ACTION: Notice.

SUMMARY: In accordance with 10 U.S.C. 1033, the Secretary of the Navy has authorized a member of the Navy to serve, without compensation on the Board of Directors for the Navy-Marine Corps Relief Society. The official so authorized, along with the name of the current incumbent to this position, is as follows: Chief of Naval Operations (N4), Vice Admiral J. D. McCarthy, SC, USN.

Authorization to serve on the Board of Directors has been made for the purpose of providing oversight and advice to, and coordination with, the Navy-Marine Corps Relief Society. Participation of the above official in the activities of the Society will not extend to participation in day-to-day operations.

FOR FURTHER INFORMATION CONTACT: Lieutenant Commander Meredith Robinson, Office of the Judge Advocate General, Administrative Law Division, 703-604-8280.

(Authority: 10 U.S.C. 1033(c))

Dated: October 4, 2004.
J. H. Wagshul,
Commander, Judge Advocate General's Corps, U.S. Navy, Federal Register Liaison Officer.

[FR Doc. 04-22711 Filed 10-7-04; 8:45 am]

BILLING CODE 3810-FF-P